DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Federal Emergency Management Agency, Department of Homeland Security.

State and county | Location and case No. | Chief executive officer of community | Community map repository | Date of modification | Community No.
Colorado:
Jefferson (FEMA Docket No.: B-2291). | Unincorporated areas of Jefferson County (22-08-0163P). | The Honorable Andy Kerr, Chair, Jefferson County Board of Commissioners, 100 Jefferson County Parkway, Suite 5550, Golden, CO 80419. | Jefferson County, Planning and Zoning Division, 100 Jefferson County, Parkway, Suite 3550, Golden, CO 80419. | Feb. 10, 2023 | 080087
Mineral (FEMA Docket No.: B-2299). | City of Creede (21-08-1132P). | The Honorable Jeffrey Larson, Mayor, City of Creede, P.O. Box 457, Creede, CO 81130. | Town Hall, 2223 North Main Street, Creede, CO 81130. | Feb. 24, 2023 | 080118
Summit (FEMA Docket No.: B-2299). | Town of Breckenridge (22-08-0208P). | The Honorable Eric Mamula, Mayor, Town of Breckenridge, P.O. Box 168, Breckenridge, CO 80424. | Public Works Department, 1095 Airport Road, Breckenridge, CO 80424. | Feb. 27, 2023 | 080172
Summit (FEMA Docket No.: B-2299). | Unincorporated areas of Summit County (22-08-0208P). | The Honorable Tamara Pogue, Chair, Summit County, Board of Commissioners, P.O. Box 68, Breckenridge, CO 80424. | Summit County Commons, 37 Peak One Drive, Breckenridge, CO 80443. | Feb. 27, 2023 | 080290
Delaware: New Castle (FEMA Docket No.: B-2299). | Unincorporated areas of New Castle County (22-03-0655P). | The Honorable Matthew Meyer, New Castle County, Executive, 87 Reads Way, New Castle, DE 19720. | New Castle County, Land Use Department, 87 Reads Way, New Castle, DE 19720. | Feb. 23, 2023 | 105085
Florida:
Bay (FEMA Docket No.: B-2304). | Unincorporated areas of Bay County (21-04-2548P). | The Honorable Robert Carroll, Chair, Bay County, Board of Commissioners, 840 West 11th Street, Panama City, FL 32401. | Bay County Planning and Zoning Division, 840 West 11th Street, Panama City, FL 32401. | Feb. 24, 2023 | 120004
Hillsborough (FEMA Docket No.: B-2291). | City of Tampa (22-04-3679P). | The Honorable Jane Castor, Mayor, City of Tampa, 306 East Jackson Street, Tampa, FL 33602. | Planning Department, 1400 North Boulevard, Tampa, FL 33607. | Feb. 16, 2023 | 120114
Monroe (FEMA Docket No.: B-2291). | Unincorporated areas of Monroe County (22-04-5024P). | The Honorable David Rice, Mayor, Monroe County, Board of Commissioners, 9400 Overseas Highway, Suite 210, Marathon, FL 33050. | Monroe County, Building Department, 2798 Overseas Highway, Suite 300, Marathon, FL 33050. | Feb. 21, 2023 | 125129
Monroe (FEMA Docket No.: B-2291). | Unincorporated areas of Monroe County (22-04-5026P). | The Honorable David Rice, Mayor, Monroe County, Board of Commissioners, 9400 Overseas Highway, Suite 210, Marathon, FL 33050. | Monroe County, Building Department, 2798 Overseas Highway, Suite 300, Marathon, FL 33050. | Feb. 21, 2023 | 125129
Monroe (FEMA Docket No.: B-2291). | Village of Islamorada (22-04-5027P). | The Honorable Pete Bacheler, Mayor, Village of Islamorada, 86800 Overseas Highway, Islamorada, FL 33036. | Building Department, 86800 Overseas Highway, Islamorada, FL 33036. | Feb. 13, 2023 | 120424
Pinellas (FEMA Docket No.: B-2299). | City of Seminole (22-04-3011P). | The Honorable Leslie Waters, Mayor, City of Seminole, 9199 113th Street, Seminole, FL 33772. | Community Development Department, 9199 113th Street, Seminole, FL 33772. | Feb. 23, 2023 | 120257
Volusia (FEMA Docket No.: B-2291). | City of Daytona Beach (21-04-5321P). | Deric C. Feacher, City of Daytona Beach, Manager, 301 South Ridgewood Avenue, Daytona Beach, FL 32115. | Utilities Department, 125 Basin Street, Suite 100, Daytona Beach, FL 32114. | Feb. 7, 2023 | 125099
Volusia (FEMA Docket No.: B-2291). | Unincorporated areas of Volusia County (21-04-5321P). | George Recktenwald, Volusia County Manager, 123 West Indiana Avenue, Deland, FL 32720. | Thomas C. Kelly, Administration Center, 123 West Indiana Avenue, Deland, FL 32720. | Feb. 7, 2023 | 125155
New Mexico: Sandoval (FEMA Docket No.: B-2299). | City of Rio Rancho (21-06-1075P). | The Honorable Greggory D. Hull, Mayor, City of Rio, Rancho, 3200 Civil Center Circle Northeast, Rio Rancho, NM 87144. | City Hall, 3200 Civil Center Circle Northeast, Rio Rancho, NM 87144. | Feb. 17, 2023 | 350146
North Carolina:
Cumberland (FEMA Docket, No.: B-2299). | Unincorporated areas of Cumberland County (22-04-2062P) | The Honorable Glenn Adams, Chair, Cumberland County, Board of Commissioners, P.O. Box 1829, Fayetteville, NC 28301. | Cumberland County, Planning and Inspections Department, 130 Gillespie Street, Fayetteville, NC 28301. | Mar. 1, 2023 | 370076
Harnett (FEMA Docket, No.: B-2299). | Unincorporated areas of Harnett County (22-04-2062P). | Lewis Weatherspoon, Chair, Harnett County, Board of Commissioners, P.O. Box 759, Lillington, NC 27546. | Harnett County Planning Services Department, 420 McKinney Parkway, Lillington, NC 27546. | Mar. 1, 2023 | 370328
Oklahoma: Rogers (FEMA Docket No.: B-2291). | City of Owasso (22-06-1793P). | The Honorable Kelly Lewis, Mayor, City of Owasso, 200 South Main Street, Owasso, OK 74055. | Public Works Department, 301 West 2nd Avenue, Owasso, OK 74055. | Feb. 16, 2023 | 400210
Pennsylvania:
Blair (FEMA Docket No.: B-2299). | Township of Freedom (22-03-0978P). | The Honorable Timothy James, Chair, Township of Freedom, Board of Supervisors, 131 Municipal Street, East Freedom, PA 16637. | Township Hall, 131 Municipal Street, East Freedom, PA 16637. | Feb. 10, 2023 | 421388
Blair (FEMA Docket No.: B-2299). | Township of Greenfield (22-03-0978P). | The Honorable Jordan Oldham, Chair, Township of Greenfield, Board of Supervisors, P.O. Box 313, Claysburg, PA 16625. | Township Hall, 477 Ski Gap Road, Claysburg, PA 16625. | Feb. 10, 2023 | 421389
Texas:
Collin (FEMA Docket No.: B-2291). | City of Celina (22-06-0892P). | The Honorable Sean Terry, Mayor, City of Celina, 142 North Ohio Street, Celina, TX 75009. | City Hall, 142 North Ohio Street, Celina, TX 75009. | Feb. 7, 2023 | 480133
Collin (FEMA Docket No.: B-2299). | City of McKinney (21-06-3351P). | The Honorable George Fuller, Mayor, City of McKinney, P.O. Box 517, McKinney, TX 75070. | Engineering Department, 221 North Tennessee Street, McKinney, TX 75069. | Feb. 27, 2023 | 480135
Dallas (FEMA Docket No.: B-2299). | Town of Sunnyvale (22-06-1541P). | The Honorable Saji George, Mayor, Town of Sunnyvale, 127 North Collins Road, Sunnyvale, TX 75182. | Town Hall, 127 North Collins Road, Sunnyvale, TX 75182. | Feb. 21, 2023 | 480188
Denton (FEMA Docket No.: B-2299). | City of Denton (22-06-1168P). | The Honorable Gerard Hudspeth, Mayor, City of Denton, 215 East McKinney Street, Suite 100, Denton, TX 76201. | Engineering Department, 901-A Texas Street, Denton, TX 76209. | Feb. 24, 2023 | 480194
Denton (FEMA Docket No.: B-2299). | City of Fort Worth (22-06-1784P). | The Honorable Mattie Parker, Mayor, City of Fort Worth, 200 Texas Street, Fort Worth, TX 76102. | Department of Transportation and Public Works, Engineering Vault & Map Repository, 200 Texas Street, Fort Worth, TX 76102. | Feb. 27, 2023 | 480596
Denton (FEMA Docket No.: B-2299). | Unincorporated areas of Denton County (22-06-1168P). | The Honorable Andy Eads, Denton County Judge, 1 Courthouse Drive, Suite 3100, Denton, TX 76208. | Denton County Development Services Department, 3900 Morse Street, Denton, TX 76208. | Feb. 24, 2023 | 480774
Denton (FEMA Docket No.: B-2299). | Unincorporated areas of Denton County (22-06-1784P). | The Honorable Andy Eads, Denton County Judge, 1 Courthouse Drive, Suite 3100, Denton, TX 76208. | Denton County Public Works Department, Engineering Department, 1505 East McKinney Street, Suite 175, Denton, TX 76209. | Feb. 27, 2023 | 480774
Kaufman (FEMA Docket No.: B-2299). | City of Dallas (22-06-1541P). | The Honorable Eric Johnson, Mayor, City of Dallas, 1500 Marilla Street, Suite 5EN, Dallas, TX 75201. | Water Utilities Department, 312 East Jefferson Boulevard, Room 307, Dallas, TX 75203. | Feb. 21, 2023 | 480171
Kaufman (FEMA Docket No.: B-2299). | Unincorporated areas of Kaufman County (22-06-1541P). | The Honorable Hal Richards, Kaufman County Judge, 100 West Mulberry Street, Kaufman, TX 75142. | Kaufman County Development Services Department, 106 West Grove Street, Kaufman, TX 75142. | Feb. 21, 2023 | 480411
Utah:
Salt Lake (FEMA Docket No.: B-2291). | City of Riverton (22-08-0092P). | The Honorable Trent Staggs, Mayor, City of Riverton, 12830 South Redwood Road, Riverton, UT 84065. | Public Works Department, 12526 South 4150 West, Riverton, UT 84065. | Feb. 16, 2023 | 490104
Salt Lake (FEMA Docket No.: B-2291). | City of South Jordan (22-08-0092P). | The Honorable Dawn R. Ramsey, Mayor, City of South Jordan, 1600 West Towne Center Drive, South Jordan, UT 84095. | Engineering Services Department, 1600 West Towne Center Drive, South Jordan, UT 84095. | Feb. 16, 2023 | 490107
Salt Lake (FEMA Docket No.: B-2299). | City of West Valley City (22-08-0322P). | Wayne T. Pyle, Manager, City of West Valley City, 3600 South Constitution Boulevard, West Valley City, UT 84119. | City Hall, 3600 South Constitution Boulevard, West Valley City, UT 84119. | Feb. 21, 2023 | 490245

[FR Doc. 2023-06274 Filed 3-24-23; 8:45 am]

BILLING CODE 9110-12-P